DEPARTMENT OF AGRICULTURE

Animal and Plant Health Inspection Service

[Docket No. APHIS-2011-0010]

Notice of Request for Reinstatement of an Information Collection; National Animal Health Monitoring System; Feedlot 2011 Study

AGENCY: Animal and Plant Health Inspection Service, USDA.

ACTION: Reinstatement of an information collection; comment request.

SUMMARY: In accordance with the Paperwork Reduction Act of 1995, this notice announces the Animal and Plant Health Inspection Service's intention to request a reinstatement of an information collection to support the National Animal Health Monitoring Feedlot 2011 Study.

DATES: We will consider all comments that we receive on or before April 18, 2011.

ADDRESSES: You may submit comments by either of the following methods:

• Federal eRulemaking Portal: Go to http://www.regulations.gov/fdmspublic/component/main?main=DocketDetail&d=APHIS-2011-0010 to submit or view comments and to view supporting and related materials available electronically.

• Postal Mail/Commercial Delivery: Please send one copy of your comment to Docket No. APHIS-2011-0010, Regulatory Analysis and Development, PPD, APHIS, Station 3A-03.8, 4700 River Road Unit 118, Riverdale, MD 20737-1238. Please state that your comment refers to Docket No. APHIS-2011-0010.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Feedlot 2011 Study, contact Mr. Chris Quatrano, Industry Analyst, Centers for Epidemiology and Animal Health, VS, APHIS, 2150 Centre Avenue, Building B MS 2E7, Fort Collins, CO 80526; 970-494-7207. For copies of more detailed information on the information collection, contact Mrs. Celeste Sickles, APHIS' Information Collection Coordinator, at (301) 851-2908.

SUPPLEMENTARY INFORMATION: Title: National Animal Health Monitoring System; Feedlot 2011 Study.

OMB Number: 0579-0079.

Type of Request: Reinstatement of an information collection.

Abstract: Under the Animal Health Protection Act (7 U.S.C. 8301 et seq.), the Animal and Plant Health Inspection Service (APHIS) of the United States Department of Agriculture (USDA) is authorized, among other things, to protect the health of our Nation's livestock and poultry populations by preventing the introduction and interstate spread of serious diseases and pests of livestock and for eradicating such diseases from the United States when feasible.

In connection with this mission, APHIS would like to reinstate the 2011 Feedlot Study, which will be used to collect information to:

• Describe changes in management practices and animal health in feedlots;

• Describe the management practices in feedlots that impact product quality;

• Identify factors associated with shedding of potential foodborne pathogens or commensal organisms by feedlot cattle;

• Describe antimicrobial usage in feedlots; and

• Describe biosecurity practices and capabilities in feedlots.

The Feedlot 2011 study will consist of several on-farm questionnaires that will be administered by APHIS-designated data collectors. The information collected through the Feedlot 2011 study will be analyzed and used to:

• Direct producer education;

• Identify research gaps;

• Facilitate education of future producers and veterinarians;

• Assess quality assurance programs; and

• Help with policy formation.

We are asking the Office of Management and Budget (OMB) to approve our use of this information collection activity for 2 years.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.5938775 hours per response.

Respondents: Feedlot managers, feedlot owners, feedlot operators.

Estimated annual number of respondents: 4,900.

Estimated annual number of responses per respondent: 1.

Estimated annual number of response hours: 4,900.

Estimated total annual burden on respondents: 2,910 hours. (Due to averaging, the total annual burden hours may not equal the product of the annual number of responses multiplied by the reporting burden per response.)

All responses to this notice will be summarized and included in the request for OMB approval. All comments will also become a matter of public record.

Done in Washington, DC, this 14th day of February 2011.
Kevin Shea,
Acting Administrator, Animal and Plant Health Inspection Service.

[FR Doc. 2011-3610 Filed 2-16-11; 8:45 am]

BILLING CODE 3410-34-P